DEPARTMENT OF COMMERCE

National Oceanic and Atmospheric Administration

RIN 0648-XA598

New England Fishery Management Council; Public meeting

AGENCY: National Marine Fisheries Service (NMFS), National Oceanic and Atmospheric Administration (NOAA), Commerce.

ACTION: Notice; Public meeting.

SUMMARY: The New England Fishery Management Council's (Council) Groundfish Committee, Plan Development Team and Advisory Panel will hold a meeting to consider actions affecting New England fisheries in the exclusive economic zone (EEZ).

DATES: The meeting will be held on Thursday, August 11, 2011 at 9 a.m.

ADDRESSES: The meeting will be held at the Crowne Plaza Boston North Shore, 50 Ferncroft Road, Danvers, MA 01923; telephone: (978) 777-2500; fax: (978) 750-7991.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the workshop's agenda are as follows:

The Committee will continue developing Framework Adjustment 47 (FW 47) to the Northeast Multispecies Fishery Management Plan (FMP). At this meeting, the Committee will discuss accountability measures for windowpane flounder, ocean pout, Atlantic halibut, and Atlantic wolffish. The Committee may develop measures that impose gear restrictions on groundfish fishing vessels (both sector and common pool) if annual catch limits for these stocks are exceeded. The Committee will receive a brief overview of the results of recent assessments for Georges Bank yellowtail flounder, Eastern Georges Bank cod, and Eastern Georges Bank haddock. The Committee will identify alternatives for modifying the Georges Bank yellowtail flounder rebuilding strategy in light of the passage of the International Fisheries Agreement Clarification Act. After a review of the accumulation limits workshop held in June 2011, the Committee will develop a scoping document for an amendment to address the issues raised at the meeting. Planning for a sector workshop to be held in October 2011 will also continue. Finally, the Committee will receive a report on progress in developing a method for setting ABCs and ACLs for fishing years 2012-14.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: July 21, 2011.
Tracey L. Thompson,
Acting Director, Office of Sustainable Fisheries, National Marine Fisheries Service.

[FR Doc. 2011-18870 Filed 7-25-11; 8:45 am]

BILLING CODE 3510-22-P